DEPARTMENT OF THE TREASURY

Office of Foreign Assets Control

Notice of OFAC Sanctions Actions

AGENCY: Office of Foreign Assets Control, Treasury.

ACTION: Notice.

SUMMARY: The Department of the Treasury's Office of Foreign Assets Control (OFAC) is publishing the names of one or more persons that have been placed on OFAC's Specially Designated Nationals and Blocked Persons List based on OFAC's determination that one or more applicable legal criteria were satisfied. All property and interests in property subject to U.S. jurisdiction of these persons are blocked, and U.S. persons are generally prohibited from engaging in transactions with them.

DATES: See SUPPLEMENTARY INFORMATION section.

FOR FURTHER INFORMATION CONTACT: OFAC: Associate Director for Global Targeting, tel.: 202-622-2420; Assistant Director for Sanctions Compliance & Evaluation, tel.: 202-622-2490; Assistant Director for Licensing, tel.: 202-622-2480; or Assistant Director for Regulatory Affairs, tel.: 202-622-4855.

SUPPLEMENTARY INFORMATION:

Electronic Availability

The Specially Designated Nationals and Blocked Persons List and additional information concerning OFAC sanctions programs are available on OFAC's website (https://www.treasury.gov/ofac).

Notice of OFAC Action(s)

On December 6, 2019, OFAC determined that the property and interests in property subject to U.S. jurisdiction of the following persons are blocked under the relevant sanctions authority listed below.

Individuals

1. AL-LAMI, Hussein Falah (a.k.a. AL-LAMI, Abu Zainab; a.k.a. AZIZ, Hussein Faleh), Iraq; DOB 20 Jun 1969; POB Baghdad, Iraq; nationality Iraq; Gender Male (individual) [GLOMAG].

Designated pursuant to section 1(a)(ii)(A) of Executive Order 13818 of December 20, 2017, “Blocking the Property of Persons Involved in Serious Human Rights Abuse or Corruption,” 82 FR 60839, 3 CFR, 2017 Comp., p. 399, (E.O. 13818) for being a foreign person who is responsible for, complicit in, or has directly or indirectly engaged in, serious human rights abuse.

2. AL-KHAZALI, Qais (a.k.a. ALAZEREJ, Qays Hadi Sayyid; a.k.a. AL-KHAZALI, Qais Hadi Sayed Hasan), Iraq; DOB 20 Jun 1974; alt. DOB 1974; POB Baghdad, Iraq; nationality Iraq; Gender Male (individual) [GLOMAG].

Designated pursuant to section 1(a)(ii)(C)(1) of E.O. 13818 for being a foreign person who is or has been a leader or official an entity, including any government entity, that has engaged in, or whose members have engaged in, serious human rights abuse relating to the leader's or official's tenure.

3. AL-KHAZALI, Laith (a.k.a. ALAZIREG, Layth Hadi Sayyid), Iraq; DOB 14 Oct 1975; nationality Iraq; Gender Male; Passport A10537439 (Iraq) expires 16 Oct 2023 (individual) [GLOMAG].

Designated pursuant to section 1(a)(ii)(A) of E.O. 13818 for being a foreign person who is responsible for, complicit in, or has directly or indirectly engaged in, serious human rights abuse.

4. AL-ISSAWI, Khamis Farhan Al-Khanjar (a.k.a. ALESSAWI, Khamis F Ali; a.k.a. ALI, Khamees Farhan Ali; a.k.a. ALI, Khames Farhan Ali; a.k.a. AL-KHANJAR, Khamis), Jordan; Iraq; DOB 1965; alt. DOB 08 Sep 1968; alt. DOB 08 Sep 1965; POB Fallujah, Iraq; nationality Iraq; Gender Male; Passport D1022354 (Iraq) expires 21 May 2023 (individual) [GLOMAG].

Designated pursuant to section 1(a)(iii)(A)(1) of E.O. 13818 for having materially assisted, sponsored, or provided financial, material, or technological support for, or goods or services to or in support of, corruption, including the misappropriation of state assets, the expropriation of private assets for personal gain, corruption related to government contracts or the extraction of natural resources, or bribery.

Dated: December 6, 2019.
Andrea Gacki,
Director, Office of Foreign Assets Control.

[FR Doc. 2019-26786 Filed 12-11-19; 8:45 am]

BILLING CODE 4810-AL-P